DEPARTMENT OF THE INTERIOR

Fish and Wildlife Service

[Docket No. FWS-R3-ES-2022-0147; FXES11140300000-234]

Draft Environmental Assessment and Proposed Habitat Conservation Plan for Crescent Wind Project, Hillsdale County, Michigan; Reopening of Public Comment Period

AGENCY: Fish and Wildlife Service, Interior.

ACTION: Notice of availability; reopening of public comment period.

SUMMARY: We, the U.S. Fish and Wildlife Service, are reopening the public comment period on our January 27, 2023, notice that announced our draft environmental assessment evaluating an incidental take permit (ITP) application received from Consumers Energy Company (applicant). The ITP application includes the Crescent Wind Project Habitat Conservation Plan, which is also under review. The applicant is requesting incidental take coverage of the Indiana bat and the northern long-eared bat. We invite comment from the public and local, State, Tribal, and Federal agencies. Comments previously submitted need not be resubmitted, because they will be fully considered.

DATES: The comment period for the draft habitat conservation plan and draft environmental assessment, notice of which was published on January 27, 2023 (88 FR 5372), is reopened. Comments submitted online at https://www.regulations.gov must be received or postmarked on or before April 6, 2023.

ADDRESSES:

Document availability: Electronic copies of the documents this notice announces, along with public comments received, are available online in Docket No. FWS-R3-ES-2022-0147 at https://www.regulations.gov.

Comment submission: Please specify whether your comment addresses the proposed habitat conservation plan, draft environmental assessment, any combination of the aforementioned documents, or other documents. You may submit written comments by one of the following methods:

• Online: https://www.regulations.gov. Search for and submit comments on Docket No. FWS-R3-ES-2022-0147.

• By hard copy: Submit comments by U.S. mail to Public Comments Processing, Attn: Docket No. FWS-R3-ES-2022-0147; U.S. Fish and Wildlife Service; 5275 Leesburg Pike, MS: PRB/3W; Falls Church, VA 22041-3803.

FOR FURTHER INFORMATION CONTACT: Scott Hicks, Field Supervisor, Michigan Ecological Services Field Office, by email at scott_hicks@fws.gov, or by telephone at 517-351-6274; or Andrew Horton, Regional HCP Coordinator, Midwest Region, by email at andrew_horton@fws.gov, or by telephone at 612-713-5337. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: On January 27, 2023 (88 FR 5372), we, the U.S. Fish and Wildlife Service, published a Federal Register notice announcing the availability for public comment of an application from Consumers Energy Company for an incidental take permit (ITP) under the Endangered Species Act (ESA; 16 U.S.C. 1531 et seq.), for its Crescent Wind Project (project). The comment period closed on February 27, 2023.

If approved, the ITP would be for a 30-year period and would authorize the incidental take of two endangered species, the Indiana bat (Myotis sodalis) and northern long-eared bat (Myotis septentrionalis). The applicant prepared a habitat conservation plan (HCP) that describes the actions and measures that the applicant would implement to avoid, minimize, and mitigate incidental take of the Indiana bat and northern long-eared bat.

With this notice, we are reopening the public comment period on the EA and HCP to provide requested appendices to the HCP not originally provided during the initial comment period (see DATES and ADDRESSES).

Availability of Public Comments

You may submit comments by one of the methods shown in ADDRESSES. We will post on https://www.regulations.gov all public comments and information received electronically or via hardcopy. All comments received, including names and addresses, will become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Authority

We provide this notice under section 10(c) of the Endangered Species Act (16 U.S.C. 1531 et seq.) and its implementing regulations (50 CFR 17.22) and the National Environmental Policy Act (42 U.S.C. 4371 et seq.) and its implementing regulations (40 CFR 1506.6; 43 CFR part 46).

Lori Nordstrom,
Assistant Regional Director, Ecological Services.

[FR Doc. 2023-05952 Filed 3-22-23; 8:45 am]

BILLING CODE 4333-15-P